DEPARTMENT OF JUSTICE

Notice of Lodging of Consent Decree Under the Comprehensive Environmental Response, Compensation, and Liability Act and the Clean Water Act

On March 18, 2019, the Department of Justice lodged a proposed Consent Decree with the United States District Court for the Northern District of Ohio in United States and State of Ohio v. City of Toledo, Ohio, Civil Action No. 3:19-cv-601-JGC.

The Consent Decree settles claims brought by the United States and the State of Ohio seeking recovery for damages for injury to, destruction of, or loss of natural resources, including the reasonable costs of assessing such injury, destruction, or loss incurred in connection with the Ottawa River Natural Resources Assessment Site, located in Toledo, Ohio, pursuant Section 107(a) of the Comprehensive Environmental Response, Compensation, and Liability Act, 42 U.S.C. 9607(a), and Section 311 of the Clean Water Act, 33 U.S.C. 1321. The Consent Decree requires the Defendant, the City of Toledo, Ohio, to (1) implement and maintain a restoration project, (2) finance the United State Department of Interior's (“DOI”) implementation of a second restoration project and deed property to DOI to enable DOI to maintain wetlands located on DOI property, (3) pay restoration oversight costs to DOI and the Ohio Environmental Protection Agency, and (4) pay the United States and the State of Ohio a total of $420,000 in past natural resources damage assessment costs.

The publication of this notice opens a period for public comment on the proposed Consent Decree. Comments should be addressed to the Assistant Attorney General, Environment and Natural Resources Division, and should refer to United States and State of Ohio v. City of Toledo, Ohio, D.J. Ref. No. 90-11-3-09090/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $45.25 (25 cents per page reproduction cost) payable to the United States Treasury. For a paper copy without the exhibits and signature pages, the cost is $11.75.

Randall M. Stone,
Acting Assistant Section Chief, Environmental Enforcement Section, Environment and Natural Resources Division.

[FR Doc. 2019-05710 Filed 3-25-19; 8:45 am]

BILLING CODE 4410-15-P